DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 U.S.C. 1531 et seq.).

Permit No. TE-040748

Applicant: Cheyenne Mountain Zoo, Cheyenne, Wyoming.

The applicant requests a permit to take black-footed ferrets (Mustela nigripes), and Wyoming toads (Bufo hemiophrys baxteri) in conjunction with recovery activities throughout the species' ranges for the purpose of enhancing their survival and recovery.

Applicant: Aaron R. Ellingson, Colorado State University, Fort Collins, Colorado.

The applicant requests a permit to take Uncompahgre fritillary butterflies (Boloria acrocnema) in conjunction with recovery activities throughout the species' range for the purpose of enhancing its survival and recovery.

Applicant: William Wyatt Hoback, University of Nebraska, Kearney, Nebraska.

The applicant requests a permit to take American burying beetles (Nicrophorus americanus) in conjunction with recovery activities throughout the species' range for the purpose of enhancing its survival and recovery.

Applicant: Kevin R. Bestgen, Colorado State University, Fort Collins, Colorado.

The applicant requests a permit to take Colorado pikeminnows (Ptychocheilus lucius) in conjunction with recovery activities throughout the species' range for the purpose of enhancing its survival and recovery.

Applicant: Greystone Environmental Consultants, Inc., Lakewood, Colorado.

The applicant requests a permit to take Southwestern willow flycatchers (Empidonax traillii extimus) in conjunction with recovery activities throughout the species' range for the purpose of enhancing its survival and recovery.

Applicant: Clay Richard Davis, Midwestern State University, Wichita Falls, Texas.

The applicant requests a permit to take black-footed ferrets (Mustela nigripes), and gray bats (Myotis grisescens) in conjunction with recovery activities throughout the species' range for the purpose of enhancing their survival and recovery.

Applicant: Hank Guarisco, Guariscocorp Inc., Lawrence, Kansas.

The applicant requests a permit to take American burying beetles (Nicrophorus americanus) in conjunction with recovery activities throughout the species' range for the purpose of enhancing its survival and recovery.

Applicant: Ronald J. Kass, Intermountain Ecosystems, Springville, Utah.

The applicant requests a permit to take Southwestern willow flycatchers (Empidonax traillii extimus) in conjunction with recovery activities throughout the species' range for the purpose of enhancing its survival and recovery.

DATES: Written comments on these requests for permits must be received on or before July 16, 2001.

ADDRESSES: Written data or comments should be submitted to the Assistant Regional Director-Ecological Services, U.S. Fish and Wildlife Service, P.O. Box 25486, Denver Federal Center, Denver, Colorado 80225-0486; facsimile 303-236-0027.

FOR FURTHER INFORMATION CONTACT: Documents and other information submitted with these applications are available for review, subject to the requirements of the Privacy Act and Freedom of Information Act, by any party who submits a written request for a copy of such documents within 20 days of the date of publication of this notice to the address above; telephone 303-236-7400.

Dated: June 6, 2001.
Ralph O. Morgenweck,
Regional Director, Denver, Colorado.

[FR Doc. 01-15113 Filed 6-14-01; 8:45 am]

BILLING CODE 4310-55-P